DEPARTMENT OF DEFENSE

GENERAL SERVICES ADMINISTRATION

NATIONAL AERONAUTICS AND SPACE ADMINISTRATION

[OMB Control No. 9000-0164; Docket 2014-0055; Sequence 23]

Federal Acquisition Regulation; Submission to OMB Review; Contractor Business Ethics Compliance Program and Disclosure Requirements

AGENCY: Department of Defense (DOD), General Services Administration (GSA), and National Aeronautics and Space Administration (NASA).

ACTION: Notice of request for public comments regarding an extension to an existing OMB information collection.

SUMMARY: Under the provisions of the Paperwork Reduction Act (44 U.S.C. chapter 35), the Regulatory Secretariat Division (MVCB) will be submitting to the Office of Management and Budget (OMB) a request to review and approve an extension of a previously approved information collection requirement concerning Contractor Business Ethics Compliance Program and Disclosure Requirements. A notice was published in the Federal Register at 79 FR 32959 on June 9, 2014. No comments were received.

DATES: Submit comments on or before September 24, 2014.

ADDRESSES: Submit comments identified by Information Collection 9000-0164, Contractor Business Ethics Compliance Program and Disclosure Requirements, by any of the following methods:

• Regulations.gov: http://www.regulations.gov. Submit comments via the Federal eRulemaking portal by searching the OMB control number 9000-0164. Select the link that corresponds with “Information Collection 9000-0164, Contractor Business Ethics Compliance Program and Disclosure Requirements”. Follow the instructions provided on the screen. Please include your name, company name (if any), and “Information Collection 9000-0164, Contractor Business Ethics Compliance Program and Disclosure Requirements”, on your attached document.

• Fax: 202-501-4067.

• Mail: General Services Administration, Regulatory Secretariat Division (MVCB), 1800 F Street NW., Washington, DC 20405. ATTN: Ms. Flowers/IC 9000-0164, Contractor Business Ethics Compliance Program and Disclosure Requirements.

Instructions: Please submit comments only and cite Information Collection 9000-0164, Contractor Business Ethics Compliance Program and Disclosure Requirements, in all correspondence related to this collection. All comments received will be posted without change to http://www.regulations.gov, including any personal and/or business confidential information provided.

FOR FURTHER INFORMATION CONTACT: Mr. Edward Loeb, Procurement Analyst, Acquisition Policy Division, via telephone 202-501-0650 or via email to edward.loeb@gsa.gov.

SUPPLEMENTARY INFORMATION:

A. Purpose

The collection applies to the FAR requirements for a contractor code of business ethics and conduct, an internal control system, and disclosure to the Government of certain violations of criminal law, violations of the civil False Claims Act, or significant overpayments.

The 60 hour burden estimate reflects revisions resulting from public comments as reflected in the November 12, 2008, final rule (73 FR 67064). In response to public comments the Government stated the initial estimate of 3 hours was inadequate and revised the estimated burden hours to 60 per response. The change particularly considers the hours that would be required for the collection within a company, prior to release to the Government.

B. Annual Reporting Burden

Respondents: 276.

Responses per Respondent: 1.

Total Responses: 276.

Hours per Response: 60.

Total Burden hours: 16,560.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755.

Please cite OMB Control No. 9000-0164, Contractor Business Ethics Compliance Program and Disclosure Requirements, in all correspondence.

Dated: August 19, 2014.
Edward Loeb,
Acting Director, Federal Acquisition Policy Division, Office of Government-wide Acquisition Policy, Office of Acquisition Policy, Office of Government-wide Policy.

[FR Doc. 2014-20122 Filed 8-22-14; 8:45 am]

BILLING CODE 6820-14-P